DEPARTMENT OF LABOR

Request for Comments Under Executive Order 12898

AGENCY: Office of the Assistant Secretary of Policy, Labor.

ACTION: Notice.

SUMMARY: The Department of Labor (DOL or Department) is committed to Environmental Justice (EJ). President Obama has renewed agencies' environmental justice planning by reinvigorating Executive Order 12898 (EO 12898), which tasked several Federal agencies with making environmental justice part of their mission. The agencies were directed to do so by identifying and addressing, as appropriate, the disproportionately high and adverse human health or environmental effects of their programs, policies, and activities on minority and low-income populations. In August 2011, agencies listed in EO 12898 signed a Memorandum of Understanding (EJ MOU), which, among other things, commits agencies to develop a final Environmental Justice Strategy. The purpose of this notice is to invite public comment on how the Department of Labor can address environmental justice through its programs, policies, regulations or reporting requirements.

DATES: Comments must be received on or before November 18, 2011.

ADDRESSES: You may submit comments through http://dolenvironmentaljustice.ideascale.com/.

All comments will be available for public inspection at http://dolenvironmentaljustice.ideascale.com/.

FOR FURTHER INFORMATION CONTACT: E. Christi Cunningham, Associate Assistant Secretary for Regulatory Policy, U.S. Department of Labor, 200 Constitution Avenue, NW., Room S-2312, Washington, DC 20210, cunningham.christi@dol.gov, (202) 693-5959; (this is not a toll-free number). Individuals with hearing impairments may call 1-800-877-8339 (TTY/TDD).

SUPPLEMENTARY INFORMATION: Executive Order 12898 did not create a new legal remedy. As an internal management tool of the Executive Branch, the Order directs Federal agencies to put in place procedures and take actions to make achieving environmental justice part of their basic mission. Former President Clinton explained that Federal agencies have the responsibility to promote nondiscrimination in Federal programs substantially affecting human health and the environment. Accordingly, agencies must implement actions to identify and address disproportionately high and adverse human health or environmental effects of their programs, policies, and activities on minority and low-income populations and federally-recognized Indian tribes. The Department views Environmental Justice from a workplace training, health and safety perspective. The Department is developing an Environmental Justice Strategy that is in line with the mission of the Department and Secretary Solis' vision for the future: good jobs for everyone. The vision of good jobs for everyone includes ensuring that workplaces are safe and healthy; helping workers who are in low-wage jobs or out of the labor market find a path into middle-class jobs; and helping middle-class families remain in the middle-class. The Department's Environmental Justice Strategy focuses on agencies directly involved with worker training (the Employment Training Administration (ETA)), and health and safety issues (the Occupational Safety and Health Administration (OSHA) and the Mine Safety and Health Administration (MSHA)).

Request for Comments: As part of our development of the DOL Environmental Justice Strategy, we are soliciting public comment. Your input is important to us. Please provide responses that are supported with specific examples and data, where possible.

This request for public input will inform development of the Department of Labor's draft Environmental Justice Strategy. To facilitate receipt of the information, the Department has created an Internet portal specifically designed to capture your input and suggestions, http://dolenvironmentaljustice.ideascale.com/. The portal contains a series of questions designed to gather information on how DOL can best meet the requirements of the Executive Order. The portal is open to receive comments through November 18, 2011.

Questions for the Public: The Department of Labor intends the questions on the portal to represent a starting point for discussion of the draft Strategic Plan. The questions are meant to initiate public dialogue, and are not intended to restrict the issues that may be raised or addressed. The questions were developed with the intent to probe a range of areas.

When addressing these questions, the Department of Labor requests that commenters identify with specificity the program, policy, regulation or reporting requirement at issue, providing legal citation(s) where available. The Department also requests that submitters provide, in as much detail as possible, an explanation of why a program, policy, regulation or reporting requirement should be modified, streamlined, expanded, or repealed as well as specific suggestions of ways the Department of Labor can better achieve environmental justice. Whenever possible, please provide empirical evidence and data to support your response.

The Department of Labor is issuing this request solely to seek useful information as it develops its plan. While responses to this request do not bind the Department of Labor to any further actions related to the response, all submissions will be made available to the public on http://dolenvironmentaljustice.ideascale.com/.

Authority: Executive Order 12898, “Federal Actions to Address Environmental Justice in Minority Populations and Low-Income Populations,” February 11, 1994. 59 FR 7629 (Feb. 16, 1994).

Dated: October 12, 2011.
William E. Spriggs,
Assistant Secretary for Policy.

[FR Doc. 2011-27505 Filed 10-24-11; 8:45 am]

BILLING CODE P